DEPARTMENT OF COMMERCE

National Oceanic and Atmospheric Administration

50 CFR Part 648

[Docket No. 020215032-2127 02; I.D. 121702A]

Fisheries of the Northeastern United States; Atlantic Bluefish Fishery; Commercial Quota Transfers

AGENCY: National Marine Fisheries Service (NMFS), National Oceanic and Atmospheric Administration (NOAA), Commerce.

ACTION: Commercial quota transfers.

SUMMARY: NMFS announces that the State of North Carolina has transferred 43,000 lb (19,504.5 kg) of its 2002 commercial quota to the State of Maryland; and the Commonwealth of Massachusetts has transferred 150,000 lb (68,038.9 kg) of its 2002 commercial quota to the State of New York. The revised quotas for the calendar year 2002 following the transfer are: North Carolina, 3,323,384 lb (1,507,461.6 kg); Maryland, 315,400 lb (143,063.0 kg); Massachusetts, 555,254 lb (251,859.0 kg); and New York, 1,449,372 lb (657,424.1 kg). NMFS has adjusted the quotas and announces the revised commercial quotas. This action is permitted under the regulations implementing the Fishery Management Plan for the Bluefish Fishery (FMP) and is intended to prevent negative economic impacts to the Maryland and New York commercial bluefish fisheries.

DATES: Effective December 26, 2002 through December 31, 2002.

FOR FURTHER INFORMATION CONTACT: Hannah Goodale, Fishery Policy Analyst, (978) 281-9101, fax (978)281-9135, e-mail Hannah.F.Goodale@noaa.gov.

SUPPLEMENTARY INFORMATION: Regulations governing the Atlantic bluefish fishery are found at 50 CFR part 648. The regulations require annual specification of a commercial quota that is apportioned among the coastal states from Maine through Florida. The process to set the annual commercial quota and the percent allocated to each state is described in § 648.160.

The FMP allows two or more states, under mutual agreement and with the concurrence of the Administrator, Northeast Region, NMFS, to transfer or combine part or all of their annual commercial bluefish quotas. The Regional Administrator must consider the criteria set forth in § 648.160(f)(1) in the evaluation of requests for quota transfers or combinations.

The total commercial quota for bluefish for the 2002 calendar year was set equal to 10,500,000 lb (4,762,720 kg) (66 FR 23625, May 9, 2002). The resulting quotas for North Carolina and Maryland were 3,366,384 (1,526,966 kg), and 315,189 lb (142,967 kg), respectively. Effective, October 8, 2002, (67 FR 62650) Maryland's quota was reduced by 42,789 lb (19,408.8 kg) to 272,400 lb (123,558.6 kg). North Carolina has agreed to transfer 43,000 lb (19,504.5 kg) to Maryland. The revised quotas for the calendar year 2002 following the transfer are: North Carolina, 3,323,384 (1,507,461.6 kg) and Maryland, 315,400 lb (143,063.0 kg).

The initial 2002 commercial quotas for Massachusetts and New York were 705,254 lb (319,897.8 kg) and 1,090,436 lb (494,613.4 kg), respectively. Effective September 12, 2002, (67 FR 57758) New York's quota was reduced by 216,064 lb (98,033 kg) to 874,372 lb (396,721 kg). Effective October 10, 2002, (67 FR 63311) New York's quota was increased as the result of a quota transfer by 425,000 lb (192,776.8 kg) to 1,299,372 lb (589,284 kg). Massachusetts has agreed to transfer 150,000 lb (68,038.8 kg) of its 2002 commercial quota to New York. The revised quotas for the calendar year 2002 are: Massachusetts, 555,254 lb (251,859.0 kg) and New York, 1,449,372 lb (657,424.1 kg).

The Regional Administrator has determined that the criteria set forth in § 648.160(f)(1) have been met. This action does not alter any of the conclusions reached in the environmental assessment for the 2002 specifications for the Atlantic bluefish fishery. This is a routine administrative action that reallocates commercial quota within the scope of previously published environmental analyses.

Classification

This action is taken under 50 CFR part 648 and is exempt from review under E.O. 12866.

Authority: Authority: 16 U.S.C. 1801 et seq.

Dated: December 18, 2002.
Bruce C. Morehead,
Acting Director, Office of Sustainable Fisheries, National Marine Fisheries Service.

[FR Doc. 02-32619 Filed 12-26-02; 8:45 am]

BILLING CODE 3510-22-S